DEPARTMENT OF COMMERCE

International Trade Administration

[A-570-051]

Certain Hardwood Plywood Products From the People's Republic of China: Final Determination of Sales at Less Than Fair Value, and Final Affirmative Determination of Critical Circumstances, in Part

AGENCY: Enforcement and Compliance, International Trade Administration, Department of Commerce.

SUMMARY: The Department of Commerce (the Department) determines that certain hardwood plywood products (hardwood plywood) from the People's Republic of China (PRC) are being, or is likely to be, sold in the United States at less than fair value (LTFV). The final weighted-average dumping margins for the investigation on hardwood plywood from the PRC are listed in the “Final Determination Margins” section of this notice.

DATES: Applicable November 16, 2017.

FOR FURTHER INFORMATION CONTACT: Amanda Brings or Ryan Mullen, AD/CVD Operations, Office V, Enforcement and Compliance, International Trade Administration, U.S. Department of Commerce, 1401 Constitution Avenue NW., Washington, DC 20230; telephone: (202) 482-3927 or (202) 482-5260, respectively.

SUPPLEMENTARY INFORMATION:

Background

On June 23, 2017, the Department published its Preliminary Determination.¹ On July 17, 2017, we published an Amended Preliminary Determination.² We invited interested parties to comment on our Preliminary Determination and Amended Preliminary Determination of sales at LTFV. For a list of the parties that filed case and rebuttal briefs, see the Issues and Decision Memorandum.³

¹ See Certain Hardwood Plywood Products from the People's Republic of China: Preliminary Affirmative Determination of Sales at Less Than Fair Value, Preliminary Affirmative Determination of Critical Circumstances, in Part, 82 FR 28629 (June 23, 2017) (Preliminary Determination) and accompanying Preliminary Decision Memorandum.

² See Certain Hardwood Plywood Products from the People's Republic of China: Amended Preliminary Determination of Sales at Less Than Fair Value, 82 FR 32683 (July 17, 2017) (Amended Preliminary Determination).

³ See Memorandum, “Issues and Decision Memorandum for the Final Determination of the Less Than Fair Value Investigation of Certain Hardwood Plywood Products from the People's Republic of China,” dated concurrently with this notice (Issues and Decision Memorandum).

Period of Investigation

The period of investigation (POI) is April 1, 2016 through September 30, 2016. This period corresponds to the two most recent fiscal quarters prior to the month of the filing of the petition, which was November 2016.⁴

⁴ See 19 CFR 351.204(b)(1).

Scope of the Investigation

The scope of the investigation covers hardwood plywood from the PRC. For a complete description of the scope of the investigation, see Appendix I to this notice. The Department issued a Preliminary Scope Decision Memorandum,⁵ Additional Preliminary Scope Decision Memorandum,⁶ and a Post-Preliminary Scope Decision Memornadum.⁷ Several interested parties submitted case and rebuttal briefs concerning scope, which we have summarized in the Department's Final Scope Decision Memorandum.⁸ The scope in Appendix I reflects the final scope language.

⁵ See Memorandum, “Certain Hardwood Plywood Products from the People's Republic of China: Scope Comments Decision Memorandum for the Preliminary Determinations,” dated April 17, 2017 (Preliminary Scope Decision Memorandum).

⁶ See Memorandum, “Certain Hardwood Plywood Products from the People's Republic of China: Additional Scope Comments Preliminary Decision Memorandum and Extension of Deadlines for Scope Case Briefs and Scope Rebuttal Briefs,” dated June 16, 2017 (Additional Preliminary Scope Decision Memorandum).

⁷ See Memorandum, “Certain Hardwood Plywood Products from the People's Republic of China: Scope Comments Post-Preliminary Decision Memorandum,” dated October 16, 2017 (Post-Preliminary Scope Decision Memorandum).

⁸ See Memorandum, “Certain Hardwood Plywood Products from the People's Republic of China: Final Scope Decision Memorandum,” dated concurrently with this notice (Final Scope Decision Memorandum).

Analysis of Comments Received

All issues raised in the case and rebuttal briefs by parties in this investigation are addressed in either the Issues and Decision Memorandum or the Final Scope Decision Memorandum accompanying this notice, both of which are hereby adopted by this notice.⁹ A list of the issues raised in the Issues and Decision Memorandum is attached to this notice as Appendix II. The Issues and Decision Memorandum is a public document and is on file electronically via Enforcement and Compliance's Antidumping and Countervailing Duty Centralized Electronic Service System (ACCESS). ACCESS is available to registered users at http://access.trade.gov. The Issues and Decision Memorandum is available to all parties in the Central Records Unit, room B8024 of the main Department of Commerce building. In addition, a complete version of the Issues and Decision Memorandum is available at http://enforcement.trade.gov/frn/index.html. The signed and electronic versions of the Issues and Decision Memorandum are identical in content.

⁹ See Issues and Decision Memorandum; Final Scope Decision Memorandum.

Verification

As provided in section 782(i) of the Tariff Act of 1930, as amended (the Act), in September 2017, the Department conducted verification of the information submitted by Linyi Chengen Import and Export Co., Ltd. (Chengen) for use in the final determination. We issued our verification report on September 29, 2017.¹⁰ The Department used standard verification procedures, including examination of relevant accounting and production records and original source documents provided by the respondent.¹¹

¹⁰ See Memorandum, “Verification of the Questionnaire Responses of Linyi Chengen Import and Export Co., Ltd. in the Antidumping Duty Investigation of Certain Hardwood Plywood Products from the People's Republic of China,” dated September 29, 2017 (Chengen Verification Report).

¹⁰ Id.

¹¹ Id.

Changes Since the Preliminary Determination

Based on our analysis of the comments received and our findings at verification, we have determined to apply the intermediate input methodology ¹² in calculating Chengen's margin and made certain other changes to the margin calculations. For a discussion of these changes, see the “Changes Since the Preliminary Determination” section of the Issues and Decision Memorandum.

¹² See Issues and Decision Memorandum at Comment 2 for a discussion of the Department's determination to apply the intermediate input methodology.

PRC-Wide Entity

For the reasons explained in the Preliminary Determination, we are continuing to find that the use of adverse facts available (AFA), pursuant to sections 776(a) and (b) of the Act, is appropriate and are applying a rate based entirely on AFA to the PRC-wide entity. The Department did not receive timely responses to its quantity and value (Q&V) questionnaire, separate rate applications, or separate rate supplemental questionnaires from certain PRC exporters and/or producers of subject merchandise that were named in the petition and to which the Department issued Q&V questionnaires.¹³ As these non-responsive PRC companies did not demonstrate that they are eligible for separate rate status, the Department continues to consider them to be part of the PRC-wide entity. Consequently, we continue to find that the PRC-wide entity withheld requested information, significantly impeded the proceeding, and failed to cooperate to the best of their abilities, and thus we are continuing to base the PRC-wide entity rate on AFA. We also continue to find that mandatory respondent, Shandong Dongfang Bayley Wood Co., Ltd. (Bayley), should be treated as part of the PRC-wide entity based on AFA.¹⁴

¹³ See Preliminary Decision Memorandum at 17-32 (Separate Rate).

¹⁴ See Issues and Decision Memorandum at Comment 1.

PRC-Wide Rate

In selecting the AFA rate for the PRC-wide entity, the Department's practice is to select a rate that is sufficiently adverse to ensure that the uncooperative party does not obtain a more favorable result by failing to cooperate than if it had fully cooperated.¹⁵ Specifically, it is the Department's practice to select, as an AFA rate, the higher of: (a) The highest dumping margin alleged in the petition; or, (b) the highest calculated dumping margin of any respondent in the investigation.¹⁶ As AFA, the Department has assigned to the PRC-wide entity the rate of 183.36 percent, which is the highest calculated dumping margin of any respondent in the investigation.¹⁷

¹⁵ See, e.g., Notice of Preliminary Determination of Sales at Less Than Fair Value and Postponement of Final Determination: Purified Carboxymethylcellulose from Finland, 69 FR 77216 (December 27, 2004), unchanged in Notice of Final Determination of Sales at Less Than Fair Value: Purified Carboxymethylcellulose from Finland, 70 FR 28279 (May 17, 2005).

¹⁶ See, e.g., Certain Stilbenic Optical Brightening Agents from the People's Republic of China: Final Determination of Sales at Less Than Fair Value, 77 FR 17436, 17438 (March 26, 2012); Final Determination of Sales at Less Than Fair Value: Certain Cold-Rolled Flat-Rolled Carbon Quality Steel Products from the People's Republic of China, 65 FR 34660 (May 31, 2000), and accompanying Issues and Decision Memorandum.

¹⁷ See Issues and Decision Memorandum at 7-8.

Separate Rate

Under section 735(c)(5)(A) of the Act, the all-others rate is normally an amount equal to the weighted average of the estimated weighted average dumping margins established for exporters and producers individually investigated, excluding any zero and de minimis margins, and any margins determined entirely on the basis of facts available. Accordingly, when only one weighted-average dumping margin for an individually investigated respondent is above de minimis and not based entirely on facts available, the separate rate will be equal to that single, above de minimis rate.

In this final determination, the Department has calculated a rate for Chengen that is not zero, de minimis, or based entirely on facts available. With respect to the other mandatory respondent, Bayley, we have determined that Bayley is part of the PRC-wide entity and subject to the PRC-wide rate, which is based entirely on adverse facts available. Therefore, the Department has assigned to the companies that have not been individually examined but have demonstrated their eligibility for a separate rate a margin of 183.36 percent, which is the rate calculated for Chengen.

Final Determination

The Department determines that the estimated final weighted-average dumping margins are as follows:

Exporter | Producer | Estimated weighted- average dumping margin (percent) | Cash deposit rate (percent)
Linyi Chengen Import and Export Co., Ltd | Linyi Dongfangjuxin Wood Co., Ltd | 183.36 | 171.55
Anhui Hoda Wood Co., Ltd | Feixian Jianxin Board Factory | 183.36 | 171.55
Anhui Hoda Wood Co., Ltd | Linyi Xicheng Wood Co., Ltd | 183.36 | 171.55
Anhui Hoda Wood Co., Ltd | Linyi Longxin Wood Co., Ltd | 183.36 | 171.55
Anhui Hoda Wood Co., Ltd | Fengxian Jihe Wood Co., Ltd | 183.36 | 171.55
Anhui Hoda Wood Co., Ltd | Xuzhou Chunyiyang Wood Co., Ltd | 183.36 | 171.55
Anhui Hoda Wood Co., Ltd | Linyi Lanshan District Xiangfeng Decorative Board Factory | 183.36 | 171.55
Anhui Hoda Wood Co., Ltd | Linyi Lanshan District Fubai Wood Board Factory | 183.36 | 171.55
Anhui Hoda Wood Co., Ltd | Shandong Jubang Wood Co., Ltd | 183.36 | 171.55
Anhui Hoda Wood Co., Ltd | Feixian Shangye Town Mingda Multi-layered Board Factory | 183.36 | 171.55
Anhui Hoda Wood Co., Ltd | Xuzhou Dayuan Wood Co., Ltd | 183.36 | 171.55
Anhui Hoda Wood Co., Ltd | Linyi Mingzhu Wood Co., Ltd | 183.36 | 171.55
Anhui Hoda Wood Co., Ltd | Linyi Renlin Wood Co., Ltd | 183.36 | 171.55
Celtic Co., Ltd | Linyi Celtic Wood Co., Ltd | 183.36 | 171.55
Celtic Co., Ltd | Pinyi Fuhua Wood Co., Ltd | 183.36 | 171.55
China Friend Limited | Feixian Wanda Wood Factory | 183.36 | 171.55
China Friend Limited | Shandong Huaxin Jiasheng Wood Co., Ltd | 183.36 | 171.55
China Friend Limited | Feixian Xinhe Wood Co., Ltd | 183.36 | 171.55
China Friend Limited | Shandong Dongfang Bayley Wood Co., Ltd | 183.36 | 171.55
China Friend Limited | Xuzhou Yujinfang Wood Co., Ltd | 183.36 | 171.55
China Friend Limited | Linyi Huifeng Wood Industry Co., Ltd | 183.36 | 171.55
China Friend Limited | Linyi Dongfangjuxin Wood Co., Ltd | 183.36 | 171.55
Cosco Star International Co., Ltd | Linyi Huasheng Yongbin Wood Corp | 183.36 | 171.55
Cosco Star International Co., Ltd | Suining Pengxiang Wood Co., Ltd | 183.36 | 171.55
Cosco Star International Co., Ltd | Pizhou Jiangshan Wood Co., Ltd | 183.36 | 171.55
Cosco Star International Co., Ltd | Shandong Union Wood Co. Ltd | 183.36 | 171.55
Cosco Star International Co., Ltd | Linyi Sanfortune Wood Co. Ltd | 183.36 | 171.55
Cosco Star International Co., Ltd | Shandong Anxin Timber Co., Ltd | 183.36 | 171.55
Cosco Star International Co., Ltd | Linyi Evergreen Wood Co., Ltd | 183.36 | 171.55
Cosco Star International Co., Ltd | Shandong Huaxin Jiasheng Wood Co., Ltd | 183.36 | 171.55
Cosco Star International Co., Ltd | Xuzhou Shenghe Wood Co., Ltd | 183.36 | 171.55
Cosco Star International Co., Ltd | Pingyi Jinniu Wood Co., Ltd | 183.36 | 171.55
Cosco Star International Co., Ltd | Linyi Celtic Wood Co., Ltd | 183.36 | 171.55
Cosco Star International Co., Ltd | Linyi Laiyi Timber Industry Co., Ltd | 183.36 | 171.55
Cosco Star International Co., Ltd | Feixian Hongqiang Wood Co., Ltd | 183.36 | 171.55
Cosco Star International Co., Ltd | Feixan Xingying Wood Co., Ltd | 183.36 | 171.55
Cosco Star International Co., Ltd | Linyi City Lanshan District Fubo Wood Factory | 183.36 | 171.55
Deqing China-Africa Foreign Trade Port Co., Ltd | Suqian Welcomewood Products CO., LTD | 183.36 | 171.55
Deqing China-Africa Foreign Trade Port Co., Ltd | Feixian Hongqiang Wooden Products CO., LTD | 183.36 | 171.55
Feixian Jinde Wood Factory | Feixian Jinde Wood Factory | 183.36 | 171.55
Feixian Longteng Wood Co., Ltd | Feixian Longteng Wood Co., Ltd | 183.36 | 171.55
Golder International Trade Co., Ltd | Fengxian Shuangxingyuan Wood Co., Ltd | 183.36 | 171.55
Golder International Trade Co., Ltd | Fengxian Fangyuan Wood Co., Ltd | 183.36 | 171.55
Golder International Trade Co., Ltd | Pizhou Jinuoyuan Wood Co., Ltd | 183.36 | 171.55
Golder International Trade Co., Ltd | Xuzhou Changcheng Wood Co., Ltd | 183.36 | 171.55
Golder International Trade Co., Ltd | Xuzhou Jiamei Wood Co., Ltd | 183.36 | 171.55
G.D. Enterprise Limited | International Wood Products (Kunshan) Co., Ltd | 183.36 | 171.55
Happy Wood Industrial Group Co., Ltd | Happy Wood Industrial Group Co., Ltd | 183.36 | 171.55
Henan Hongda Woodcraft Industry Co., Ltd | Henan Hongda Woodcraft Industry Co., Ltd | 183.36 | 171.55
Highland Industries Inc. | Weifang Hanlin Timber Producers co. Ltd | 183.36 | 171.55
Highland Industries Inc. | Anqiu Hengrui Wood Co., Ltd | 183.36 | 171.55
Highland Industries Inc. | Weifang Chenglin Wood Industry Co., Ltd | 183.36 | 171.55
Huainan Mengping Import and Export Co., Ltd | Linyi Qianfeng Panel Factory Co., Ltd | 183.36 | 171.55
Jiangsu High Hope Arser Co., Ltd | Shandong Dongfang Bayley Wood Co., Ltd | 183.36 | 171.55
Jiangsu High Hope Arser Co., Ltd | Xuzhou Zhongtong Wood Co., Ltd | 183.36 | 171.55
Jiangsu High Hope Arser Co., Ltd | Pizhou Arser Wood Co., Ltd | 183.36 | 171.55
Jiangsu High Hope Arser Co., Ltd | Linyi Jinghai Wood Products Factory | 183.36 | 171.55
Jiangsu Qianjiuren International Trading Co., Ltd | Jiangsu Shuren Wood Co., Ltd | 183.36 | 171.55
Jiangsu Shengyang Industrial Joint Stock Co., Ltd | Jiangsu Shengyang Industrial Joint Stock Co., Ltd | 183.36 | 171.55
Jiangsu Top Point International Co., Ltd | Linyi Jinkun Wood Co., Ltd | 183.36 | 171.55
Jiangsu Top Point International Co., Ltd | Feixian Huafeng Wood Co., Ltd | 183.36 | 171.55
Jiangsu Top Point International Co., Ltd | Feixian Xindongfang Wood Co., Ltd | 183.36 | 171.55
Jiangsu Top Point International Co., Ltd | Feixian Fuyang Plywood Factory | 183.36 | 171.55
Jiangsu Top Point International Co., Ltd | Fengxian Shuangxingyuan Wood Co., Ltd | 183.36 | 171.55
Jiangsu Top Point International Co., Ltd | Linyi Celtic Wood Co., Ltd | 183.36 | 171.55
Jiashan Dalin Wood Industry Co., Ltd | Jiashan Dalin Wood Industry Co., Ltd | 183.36 | 171.55
Jiaxing Gsun Imp. & Exp. Co., Ltd | Fengxian Hengyuan Wood Industry Co., Ltd | 183.36 | 171.55
Jiaxing Gsun Imp. & Exp. Co., Ltd | Feixian Junyang Wood Industry Co., Ltd | 183.36 | 171.55
Jiaxing Gsun Imp. & Exp. Co., Ltd | Feixian Junbang Wood Factory | 183.36 | 171.55
Jiaxing Gsun Imp. & Exp. Co., Ltd | Linyi City Lanshan District Mingda Wood Factory | 183.36 | 171.55
Jiaxing Gsun Imp. & Exp. Co., Ltd | Feixian Hongyun Wood Factory | 183.36 | 171.55
Jiaxing Gsun Imp. & Exp. Co., Ltd | Linyi City Lanshan District Xiangfeng Wood Decoration Factory | 183.36 | 171.55
Jiaxing Gsun Imp. & Exp. Co., Ltd | Shandong Jubang Wood Co., Ltd | 183.36 | 171.55
Jiaxing Gsun Imp. & Exp. Co., Ltd | Feixian Yixin Wood Processing Factory | 183.36 | 171.55
Jiaxing Gsun Imp. & Exp. Co., Ltd | Pizhou Wantai Wood Industry Co., Ltd | 183.36 | 171.55
Jiaxing Gsun Imp. & Exp. Co., Ltd | Feixian Fengxiang Wood Processing Factory | 183.36 | 171.55
Jiaxing Gsun Imp. & Exp. Co., Ltd | Shandong Compete Wood Co., Ltd | 183.36 | 171.55
Jiaxing Gsun Imp. & Exp. Co., Ltd | Linyi Kunyu Plywood Factory | 183.36 | 171.55
Jiaxing Hengtong Wood Co., Ltd | Jiaxing Hengtong Wood Co., Ltd | 183.36 | 171.55
Jiaxing Kaochuan Woodwork Co., Ltd | Jiaxing Kaochuan Woodwork Co., Ltd | 183.36 | 171.55
Leadwood Industrial Corp | Leadwood Industrial Corp | 183.36 | 171.55
Lianyungang Yuantai International Trade Co., Ltd | Xinyi Chaohua Wood Co., Ltd | 183.36 | 171.55
Lianyungang Yuantai International Trade Co., Ltd | Linyi Huasheng Yongbin Wood Corp | 183.36 | 171.55
Lianyungang Yuantai International Trade Co., Ltd | Linyi City Lanshan District Baoshan Wood Factory | 183.36 | 171.55
Lianyungang Yuantai International Trade Co., Ltd | Pizhou Yuanxing Wood Co., Ltd | 183.36 | 171.55
Lianyungang Yuantai International Trade Co., Ltd | Linyi Celtic Wood Co., Ltd | 183.36 | 171.55
Lianyungang Yuantai International Trade Co., Ltd | Linyi City Lanshan District Fubo Wood Factory | 183.36 | 171.55
Lianyungang Yuantai International Trade Co., Ltd | Fei County Hongsheng Wood Co., Ltd | 183.36 | 171.55
Lianyungang Yuantai International Trade Co., Ltd | Xuzhou Hongwei Wood Co., Ltd | 183.36 | 171.55
Lianyungang Yuantai International Trade Co., Ltd | Pizhou Jinguoyuan Wood Co., Ltd | 183.36 | 171.55
Lianyungang Yuantai International Trade Co., Ltd | Feixian Wanda Wood Co., Ltd | 183.36 | 171.55
Lianyungang Yuantai International Trade Co., Ltd | Fengxian Shuangxingyuan Wood Co., Ltd | 183.36 | 171.55
Lianyungang Yuantai International Trade Co., Ltd | Feixian Hongqiang Wood Co., Ltd | 183.36 | 171.55
Lianyungang Yuantai International Trade Co., Ltd | Linyi City Lanshan District Fuerda Wood Factory | 183.36 | 171.55
Lianyungang Yuantai International Trade Co., Ltd | Fengxian Hengyuan Wood Industry Co., Ltd | 183.36 | 171.55
Lianyungang Yuantai International Trade Co., Ltd | Feixian Xingying Wood Co., Ltd | 183.36 | 171.55
Lianyungang Yuantai International Trade Co., Ltd | Shandong Jubang Wood Co., Ltd | 183.36 | 171.55
Lianyungang Yuantai International Trade Co., Ltd | Feixian Junyang Wood Industry Co., Ltd | 183.36 | 171.55
Lianyungang Yuantai International Trade Co., Ltd | Feixian Junbang Wood Factory | 183.36 | 171.55
Lianyungang Yuantai International Trade Co., Ltd | Feixian Hongyun Wood Factory | 183.36 | 171.55
Lianyungang Yuantai International Trade Co., Ltd | Linyi City Lanshan District Xiangfeng Wood Decoration Factory | 183.36 | 171.55
Lianyungang Yuantai International Trade Co., Ltd | Linyi Renlin Wood Industry Co., Ltd | 183.36 | 171.55
Lianyungang Yuantai International Trade Co., Ltd | Linyi City Lanshan District Mingda Wood Factory | 183.36 | 171.55
Linyi City Dongfang Fukai Wood Industry Co., Ltd | Linyi City Dongfang Fukai Wood Industry Co., Ltd | 183.36 | 171.55
Linyi City Dongfang Jinxin Economic and Trade Co., Ltd | Linyi City Dongfang Jinxin Economic and Trade Co., Ltd | 183.36 | 171.55
Linyi City Shenrui International Trade Co., Ltd | Linyi City Dongfang Fuchao Wood Co., Ltd | 183.36 | 171.55
Linyi City Shenrui International Trade Co., Ltd | Feixian Zhenghua Wood Factory | 183.36 | 171.55
Linyi Dahua Wood Co., Ltd | Linyi Dahua Wood Co., Ltd | 183.36 | 171.55
Linyi Evergreen Wood Co., Ltd | Linyi Evergreen Wood Co., Ltd | 183.36 | 171.55
Linyi Glary Plywood Co., Ltd | Linyi Glary Plywood Co., Ltd | 183.36 | 171.55
Linyi Hengsheng Wood Industry Co., Ltd | Linyi Hengsheng Wood Industry Co., Ltd | 183.36 | 171.55
Linyi Huasheng Yongbin Wood Co., Ltd | Linyi Huasheng Yongbin Wood Co., Ltd | 183.36 | 171.55
Linyi Jiahe Wood Industry Co., Ltd | Linyi Jiahe Wood Industry Co., Ltd | 183.36 | 171.55
Linyi Linhai Wood Co., Ltd | Linyi Linhai Wood Co., Ltd | 183.36 | 171.55
Linyi Mingzhu Wood Co., Ltd | Linyi Mingzhu Wood Co., Ltd | 183.36 | 171.55
Linyi Sanfortune Wood Co., Ltd | Linyi Sanfortune Wood Co., Ltd | 183.36 | 171.55
Linyi Tian He Wooden Industry Co., Ltd | Linyi Tian He Wooden Industry Co., Ltd | 183.36 | 171.55
Pingyi Jinniu Wood Co., Ltd | Pingyi Jinniu Wood Co., Ltd | 183.36 | 171.55
Pizhou Dayun Import & Export Trade Co., Ltd | Xuzhou Camry Wood Co., Ltd | 183.36 | 171.55
Pizhou Jin Sheng Yuan International Trade Co., Ltd | Xuzhou Chengxin Wood Co., Ltd | 183.36 | 171.55
Pizhou Jin Sheng Yuan International Trade Co., Ltd | Xuzhou Golden River Wood Co., Ltd | 183.36 | 171.55
Qingdao Good Faith Import and Export Co., Ltd | Linyi Fubo Wood Co., Ltd | 183.36 | 171.55
Qingdao Good Faith Import and Export Co., Ltd | Linyi Tuopu Zhixin Wooden Industry Co., Ltd | 183.36 | 171.55
Qingdao Good Faith Import and Export Co., Ltd | Linyi Haisen Wood Co., Ltd | 183.36 | 171.55
Qingdao Good Faith Import and Export Co., Ltd | Linyi Jubang Wood Co., Ltd | 183.36 | 171.55
Qingdao Good Faith Import and Export Co., Ltd | Xuzhou Changcheng Wood Co., Ltd | 183.36 | 171.55
Qingdao Good Faith Import and Export Co., Ltd | Xuzhou Jinguoyuan Wood Co., Ltd | 183.36 | 171.55
Qingdao Good Faith Import and Export Co., Ltd | Xuzhou Xuexin Wood Co., Ltd | 183.36 | 171.55
Qingdao Good Faith Import and Export Co., Ltd | Anhui Fuyang Qinglin Wood Products Co., Ltd | 183.36 | 171.55
Qingdao Good Faith Import and Export Co., Ltd | Anhui Huijin Wood Co., Ltd | 183.36 | 171.55
Qingdao Good Faith Import and Export Co., Ltd | Anhui Lingfeng Wood Co., Ltd | 183.36 | 171.55
Qingdao Good Faith Import and Export Co., Ltd | Suzhou Dongsheng Wood Co., Ltd | 183.36 | 171.55
Qingdao Good Faith Import and Export Co., Ltd | Pizhou Zhongxin Wood Co., Ltd | 183.36 | 171.55
Qingdao Good Faith Import and Export Co., Ltd | Xuzhou Spring Art Yang Wood Industry Co., Ltd | 183.36 | 171.55
Qingdao Top P&Q International Corp | Linyi Dahua Wood Products Co., Ltd | 183.36 | 171.55
Qingdao Top P&Q International Corp | Yutai Zezhong Wood Products Co., Ltd | 183.36 | 171.55
Qingdao Top P&Q International Corp | Linyi Evergreen Wood Products Co., Ltd | 183.36 | 171.55
Qingdao Top P&Q International Corp | Suzhou Dongsheng Wood Co., Ltd | 183.36 | 171.55
Qingdao Top P&Q International Corp | Shandong Dongfang Bayley Wood Products Co., Ltd | 183.36 | 171.55
Qingdao Top P&Q International Corp | Feixian Tanyi Youchengjiafu Wood Products Co., Ltd | 183.36 | 171.55
Qingdao Top P&Q International Corp | Feixian Mingteng Wood Products Co., Ltd | 183.36 | 171.55
Qingdao Top P&Q International Corp | Linyi Dahua Wood Products Co., Ltd | 183.36 | 171.55
Qingdao Top P&Q International Corp | Yutai Zezhong Wood Products Co., Ltd | 183.36 | 171.55
Qingdao Top P&Q International Corp | Linyi Qianfeng Wood Products Co., Ltd | 183.36 | 171.55
Qingdao Top P&Q International Corp | Shandong Jinqiu Wood Products Co., Ltd | 183.36 | 171.55
Qingdao Top P&Q International Corp | Linyi Laite Plywood Factory | 183.36 | 171.55
Qingdao Top P&Q International Corp | Xuzhou Chunyiyang Wood Products Co. Ltd | 183.36 | 171.55
Qingdao Top P&Q International Corp | Feixian Lijun Wood Products Co., Ltd | 183.36 | 171.55
Qingdao Top P&Q International Corp | Feixian Shuangfeng Wood Products Co., Ltd | 183.36 | 171.55
Qingdao Top P&Q International Corp | Linyi Longxin Wood Products Co., Ltd | 183.36 | 171.55
Qingdao Top P&Q International Corp | Linyi Lanshan Wanmei Wood Factory | 183.36 | 171.55
Qingdao Top P&Q International Corp | Feixian Xinhe Wood Products Co., Ltd | 183.36 | 171.55
Qingdao Top P&Q International Corp | Linyi Chenyuan Wood Products Co., Ltd | 183.36 | 171.55
Qingdao Top P&Q International Corp | Di Birch Wood Industry Co., Ltd | 183.36 | 171.55
Qingdao Top P&Q International Corp | Shandong Junxing Wood Products Co., Ltd | 183.36 | 171.55
Qingdao Top P&Q International Corp | Linyi Jiexin Wood Products Factory | 183.36 | 171.55
Qingdao Top P&Q International Corp | Xuzhou Fuyu Wood Industry Co., Ltd | 183.36 | 171.55
Qingdao Top P&Q International Corp | Jiangsu Lishun Industry And Trade Co., Ltd | 183.36 | 171.55
Qingdao Top P&Q International Corp | Linyi Evergreen Wood Products Co., Ltd | 183.36 | 171.55
Qingdao Top P&Q International Corp | Anhui Qinglin Wood Products Co., Ltd | 183.36 | 171.55
Qingdao Top P&Q International Corp | Linyi Haisen Wood Products Co., Ltd | 183.36 | 171.55
Qingdao Top P&Q International Corp | Linyi Hongze Plywood Factory | 183.36 | 171.55
Qingdao Top P&Q International Corp | Linyi Kaifeng Wood Products Co., Ltd | 183.36 | 171.55
Qingdao Top P&Q International Corp | Feixian Fugang Wood Products Co., Ltd | 183.36 | 171.55
Qingdao Top P&Q International Corp | Lanling Longziyun Wood Products Co., Ltd | 183.36 | 171.55
Qingdao Top P&Q International Corp | Linyi Fuerda Wood Products Co., Ltd | 183.36 | 171.55
Qingdao Top P&Q International Corp | Fengxian Shuangxingyuan Wood Co., Ltd | 183.36 | 171.55
Qingdao Top P&Q International Corp | Suzhou Dongsheng Wood Co., Ltd | 183.36 | 171.55
Qingdao Top P&Q International Corp | Feixan Dexin Wood Products Co., Ltd | 183.36 | 171.55
Qingdao Top P&Q International Corp | Shandong Dongfang Bayley Wood Products Co., Ltd | 183.36 | 171.55
Qingdao Top P&Q International Corp | Linyi Huifeng Wood Products Co., Ltd | 183.36 | 171.55
Qingdao Top P&Q International Corp | Feixian Kailin Wood Products Co., Ltd | 183.36 | 171.55
Shandong Anxin Timber Co., Ltd | Shandong Anxin Timber Co., Ltd | 183.36 | 171.55
Shandong Huaxin Jiasheng Wood Co., Ltd | Shandong Huaxin Jiasheng Wood Co., Ltd | 183.36 | 171.55
Shandong Huiyu International Trade Co., Ltd | Linyi Huifeng Wood Products Co., Ltd | 183.36 | 171.55
Shandong Jinluda International Trade Co., Ltd | Shandong Union Wood Co., Ltd | 183.36 | 171.55
Shandong Jinluda International Trade Co., Ltd | Shandong Jinqiu Wood Co., Ltd | 183.36 | 171.55
Shandong Johnson Trading Co., Ltd | Fengxian Hengyuan Wood Industry Co., Ltd | 183.36 | 171.55
Shandong Johnson Trading Co., Ltd | Feixian Junyang Wood Industry Co., Ltd | 183.36 | 171.55
Shandong Johnson Trading Co., Ltd | Feixian Junbang Wood Factory | 183.36 | 171.55
Shandong Johnson Trading Co., Ltd | Linyi City Lanshan District Mingda Wood Factory | 183.36 | 171.55
Shandong Johnson Trading Co., Ltd | Feixian Hongyun Wood Factory | 183.36 | 171.55
Shandong Johnson Trading Co., Ltd | Linyi City Lanshan District Xiangfeng Wood Decoration Factory | 183.36 | 171.55
Shandong Johnson Trading Co., Ltd | Linyi Lanshan Yulin Wood Factory | 183.36 | 171.55
Shandong Johnson Trading Co., Ltd | Shandong Jubang Wood Co., Ltd | 183.36 | 171.55
Shandong Johnson Trading Co., Ltd | Feixian Yixin Wood Processing Factory | 183.36 | 171.55
Shandong Johnson Trading Co., Ltd | Linyi Renlin Wood Industry Co., Ltd | 183.36 | 171.55
Shandong Johnson Trading Co., Ltd | Xuzhou Dayuan Wood Industry Co., Ltd | 183.36 | 171.55
Shandong Johnson Trading Co., Ltd | Xuzhou Yuantai Wood Co., Ltd | 183.36 | 171.55
Shandong Johnson Trading Co., Ltd | Pizhou Wantai Wood Industry Co., Ltd | 183.36 | 171.55
Shandong Johnson Trading Co., Ltd | Feixian Desheng Wood Industry Factory | 183.36 | 171.55
Shandong Johnson Trading Co., Ltd | Xuzhou Zhongcai Wood Industry Co., Ltd | 183.36 | 171.55
Shandong Johnson Trading Co., Ltd | Feixian Fengxiang Wood Processing Factory | 183.36 | 171.55
Shandong Johnson Trading Co., Ltd | Shandong Compete Wood Co., Ltd | 183.36 | 171.55
Shandong Qishan International Trading Co., Ltd | Linyi Tuopu Zhixin Wooden Industry Co., Ltd | 183.36 | 171.55
Shandong Senmanqi Import & Export Co., Ltd | Shandong Jinqiu Wood Co., Ltd | 183.36 | 171.55
Shandong Shengdi International Trading Co., Ltd | Qufu Shengda Wood Co., Ltd | 183.36 | 171.55
Shanghai Brightwood Trading Co., Ltd | Linyi Jinghua Wood Industry Co., Ltd | 183.36 | 171.55
Shanghai Brightwood Trading Co., Ltd | Linyi Lianbang Wood Industry Co., Ltd | 183.36 | 171.55
Shanghai Brightwood Trading Co., Ltd | Linyi Huada Wood Industry Co., Ltd | 183.36 | 171.55
Shanghai Brightwood Trading Co., Ltd | Linyi Laite Board Factory | 183.36 | 171.55
Shanghai Brightwood Trading Co., Ltd | Linyi Yuqiao Board Factory | 183.36 | 171.55
Shanghai Brightwood Trading Co., Ltd | Feixian Huafeng Wood Industry Co., Ltd | 183.36 | 171.55
Shanghai Brightwood Trading Co., Ltd | Xuzhou Shuangxingyuan Wood Industry Co., Ltd | 183.36 | 171.55
Shanghai Brightwood Trading Co., Ltd | Linyi Youcheng Jiafu Wood Industry Co., Ltd | 183.36 | 171.55
Shanghai Brightwood Trading Co., Ltd | Linyi Lanshan Jinhao Board Factory | 183.36 | 171.55
Shanghai Brightwood Trading Co., Ltd | Siyang Dazhong Wood Product Factory | 183.36 | 171.55
Shanghai Brightwood Trading Co., Ltd | Binzhou Yongsheng Artificial Board Industrial Trade Co., Ltd | 183.36 | 171.55
Shanghai Brightwood Trading Co., Ltd | Linyi Senpeng Wood Industry Co., Ltd | 183.36 | 171.55
Shanghai Brightwood Trading Co., Ltd | Dangshan County Weidi Wood Industry Co., Ltd | 183.36 | 171.55
Shanghai Brightwood Trading Co., Ltd | Yutai County Zezhong Wood Industry Co., Ltd | 183.36 | 171.55
Shanghai Brightwood Trading Co., Ltd | Linyi Huasheng Yongbin Wood Co., Ltd | 183.36 | 171.55
Shanghai Brightwood Trading Co., Ltd | Linyi Hengan Wood Industry Co., Ltd | 183.36 | 171.55
Shanghai Futuwood Trading Co., Ltd | Linyi Jinghua Wood Industry Co., Ltd | 183.36 | 171.55
Shanghai Futuwood Trading Co., Ltd | Linyi Lianbang Wood Industry Co., Ltd | 183.36 | 171.55
Shanghai Futuwood Trading Co., Ltd | Linyi Huada Wood Industry Co., Ltd | 183.36 | 171.55
Shanghai Futuwood Trading Co., Ltd | Linyi Jinkun Wood Industry Co., Ltd | 183.36 | 171.55
Shanghai Futuwood Trading Co., Ltd | Linyi Yuqiao Board Factory | 183.36 | 171.55
Shanghai Futuwood Trading Co., Ltd | Linyi Laite Board Factory | 183.36 | 171.55
Shanghai Futuwood Trading Co., Ltd | Linyi Tuopu Zhixin Wooden Industry Co., Ltd | 183.36 | 171.55
Shanghai Futuwood Trading Co., Ltd | Feixian Huafeng Wood Industry Co., Ltd | 183.36 | 171.55
Shanghai Futuwood Trading Co., Ltd | Xuzhou Shuangxingyuan Wood Industry Co., Ltd | 183.36 | 171.55
Shanghai Futuwood Trading Co., Ltd | Linyi Youcheng Jiafu Wood Industry Co., Ltd | 183.36 | 171.55
Shanghai Futuwood Trading Co., Ltd | Shandong Qingyuan Wood Industry Co., Ltd | 183.36 | 171.55
Shanghai Futuwood Trading Co., Ltd | Linyi Lanshan Jinhao Board Factory | 183.36 | 171.55
Shanghai Futuwood Trading Co., Ltd | Linyi Lanshan Fubai Wood Industry Board Factory | 183.36 | 171.55
Shanghai Futuwood Trading Co., Ltd | Siyang Dazhong Wood Product Factory | 183.36 | 171.55
Shanghai Futuwood Trading Co., Ltd | Binzhou Yongsheng Artificial Board Industrial Trade Co., Ltd | 183.36 | 171.55
Shanghai Futuwood Trading Co., Ltd | Shandong Jinqiu Wood Industry Co., Ltd | 183.36 | 171.55
Shanghai Futuwood Trading Co., Ltd | Linyi Senpeng Wood Industry Co., Ltd | 183.36 | 171.55
Shanghai Futuwood Trading Co., Ltd | Xuzhou Heng'an Wood Industry Co., Ltd | 183.36 | 171.55
Shanghai Futuwood Trading Co., Ltd | Dangshan Weidi Wood Industry Co., Ltd | 183.36 | 171.55
Shanghai Futuwood Trading Co., Ltd | Fengxian Jihe Wood Industry Co., Ltd | 183.36 | 171.55
Shanghai Futuwood Trading Co., Ltd | Yutai Zezhong Wood Industry Co., Ltd | 183.36 | 171.55
Shanghai Futuwood Trading Co., Ltd | Linyi Huasheng Yongbin Wood Co., Ltd | 183.36 | 171.55
Shanghai Futuwood Trading Co., Ltd | Linyi Kaifeng Wood Board Factory | 183.36 | 171.55
Shanghai Futuwood Trading Co., Ltd | Linyi Mingda Wood Industry Co., Ltd | 183.36 | 171.55
Shanghai Futuwood Trading Co., Ltd | Yangxin County Xintong Decorative Materials Co., Ltd | 183.36 | 171.55
Shanghai Futuwood Trading Co., Ltd | Pingyi County Zhongli Wood Products Factory | 183.36 | 171.55
Shanghai Futuwood Trading Co., Ltd | Pingyi County Yuxin Board Factory | 183.36 | 171.55
Shanghai Futuwood Trading Co., Ltd | Linyi Mingzhu Wood Co., Ltd | 183.36 | 171.55
Shanghai Luli Trading Co., Ltd | Feixian Wanda Wood Factory | 183.36 | 171.55
Shanghai Luli Trading Co., Ltd | Shandong Huaxin Jiasheng Wood Co., Ltd | 183.36 | 171.55
Shanghai Luli Trading Co., Ltd | Feixian Xinhe Wood Co., Ltd | 183.36 | 171.55
Shanghai Luli Trading Co., Ltd | Xuzhou Yujinfang Wood Co., Ltd | 183.36 | 171.55
Shanghai Luli Trading Co., Ltd | Linyi Huifeng Wood Industry Co., Ltd | 183.36 | 171.55
Shanghai S&M Trade Co., Ltd | LinYi Celtic Wood Co., Ltd | 183.36 | 171.55
Shanghai S&M Trade Co., Ltd | Linyi Lanshan District Jinhao Wood Factory | 183.36 | 171.55
Shanghai S&M Trade Co., Ltd | Jiangsu Shuren Wood Industry Co., Ltd | 183.36 | 171.55
Shanghai S&M Trade Co., Ltd | Jiangsu Sending Wood Industry Co., Ltd | 183.36 | 171.55
Smart Gift International | LinYi Celtic Wood Co., Ltd | 183.36 | 171.55
Smart Gift International | Linyi Lanshan District Jinhao Wood Factory | 183.36 | 171.55
Smart Gift International | Jiangsu Shuren Wood Industry Co., Ltd | 183.36 | 171.55
Smart Gift International | Jiangsu Sending Wood Industry Co., Ltd | 183.36 | 171.55
Suining Pengxiang Wood Co., Ltd | Suining Pengxiang Wood Co., Ltd | 183.36 | 171.55
Sumec International Technology Co., Ltd | Suqian Huilin Wood Industry Co., Ltd | 183.36 | 171.55
Sumec International Technology Co., Ltd | Shandong Junxing Wood Industry Co., Ltd | 183.36 | 171.55
Sumec International Technology Co., Ltd | Linyi Longxin Wood Industry Co., Ltd | 183.36 | 171.55
Sumec International Technology Co., Ltd | Linyi Xicheng Wood Industry Co., Ltd | 183.36 | 171.55
Sumec International Technology Co., Ltd | Feixian County Mingda Multilayered Board Factory | 183.36 | 171.55
Sumec International Technology Co., Ltd | Linyi Celtic Wood Industry Co., Ltd | 183.36 | 171.55
Sumec International Technology Co., Ltd | Shandong Haote Decorative Materials Co., Ltd | 183.36 | 171.55
Sumec International Technology Co., Ltd | Linyi City Lanshan District Linyu Board Factory | 183.36 | 171.55
Sumec International Technology Co., Ltd | Linyi City Lanshan District Xiangfeng Decorative Board Factory | 183.36 | 171.55
Sumec International Technology Co., Ltd | Linyi City Baoshan Board Factory | 183.36 | 171.55
Sumec International Technology Co., Ltd | Feixian Xingying Wood Industry Co., Ltd | 183.36 | 171.55
Sumec International Technology Co., Ltd | Fengxian Jihe Wood Industry Co., Ltd | 183.36 | 171.55
Sumec International Technology Co., Ltd | Xuzhou Jiangshan Wood Industry Co., Ltd | 183.36 | 171.55
Sumec International Technology Co., Ltd | Xuzhou Senyuan Wood Products Co., Ltd | 183.36 | 171.55
Sumec International Technology Co., Ltd | Xuzhou Jinguoyuan Wood Industry Co., Ltd | 183.36 | 171.55
Sumec International Technology Co., Ltd | Xuzhou Chunyiyang Wood Industry Co., Ltd | 183.36 | 171.55
Sumec International Technology Co., Ltd | Zibo Sumaida Wood Industry Co., Ltd | 183.36 | 171.55
Suqian Hopeway International Trade Co., Ltd | Xuzhou Henglin Wood Co., Ltd | 183.36 | 171.55
Suqian Hopeway International Trade Co., Ltd | Qufu Shengda Wood Co., Ltd | 183.36 | 171.55
Suqian Hopeway International Trade Co., Ltd | Pizhou Xuexin Wood Products Co., Ltd | 183.36 | 171.55
Suqian Hopeway International Trade Co., Ltd | Pizhou Jiangshan Wood Co., Ltd | 183.36 | 171.55
Suqian Hopeway International Trade Co., Ltd | Shandong Union Wood Co., Ltd | 183.36 | 171.55
Suqian Hopeway International Trade Co., Ltd | Linyi City Lanshan District Fubo Wood Factory | 183.36 | 171.55
Suqian Hopeway International Trade Co., Ltd | Linyi Mingzhu Wood Co., Ltd | 183.36 | 171.55
Suqian Hopeway International Trade Co., Ltd | Suzhou Dongsheng Wood Co., Ltd | 183.36 | 171.55
Suqian Hopeway International Trade Co., Ltd | Linyi Jiahe Wood Industry Co., Ltd | 183.36 | 171.55
Suqian Hopeway International Trade Co., Ltd | Linyi Dahua Wood Co., Ltd | 183.36 | 171.55
Suqian Yaorun Trade Co., Ltd | Pizhou Jiangshan Wood Co., Ltd | 183.36 | 171.55
Suqian Yaorun Trade Co., Ltd | Suqian Bairun Wood Co., Ltd | 183.36 | 171.55
Suzhou Dongsheng Wood Co., Ltd | Suzhou Dongsheng Wood Co., Ltd | 183.36 | 171.55
Suzhou Fengshuwan Import and Exports Trade Co., Ltd | Xuzhou Henglin Wood Co., Ltd | 183.36 | 171.55
Suzhou Fengshuwan Import and Exports Trade Co., Ltd | Qufu Shengda Wood Co., Ltd | 183.36 | 171.55
Suzhou Fengshuwan Import and Exports Trade Co., Ltd | Pizhou Xuexin Wood Products Co., Ltd | 183.36 | 171.55
Suzhou Fengshuwan Import and Exports Trade Co., Ltd | Pizhou Jiangshan Wood Co. Ltd | 183.36 | 171.55
Suzhou Fengshuwan Import and Exports Trade Co., Ltd | Shandong Union Wood Co. Ltd | 183.36 | 171.55
Suzhou Fengshuwan Import and Exports Trade Co., Ltd | Linyi City Lanshan District Fubo Wood Factory | 183.36 | 171.55
Suzhou Fengshuwan Import and Exports Trade Co., Ltd | Linyi Mingzhu Wood Co., Ltd | 183.36 | 171.55
Suzhou Fengshuwan Import and Exports Trade Co., Ltd | Suzhou Dongsheng Wood Co., Ltd | 183.36 | 171.55
Suzhou Fengshuwan Import and Exports Trade Co., Ltd | Linyi Jiahe Wood Industry Co., Ltd | 183.36 | 171.55
Suzhou Fengshuwan Import and Exports Trade Co., Ltd | Linyi Dahua Wood Co., Ltd | 183.36 | 171.55
Suzhou Oriental Dragon Import and Export Co., Ltd | Linyi Tiancai Timber Co., Ltd | 183.36 | 171.55
Suzhou Oriental Dragon Import and Export Co., Ltd | Lingyi Huasheng Yongbin Wood Co., Ltd | 183.36 | 171.55
Suzhou Oriental Dragon Import and Export Co., Ltd | Linyi Xicheng Wood Products Co., Ltd | 183.36 | 171.55
Suzhou Oriental Dragon Import and Export Co., Ltd | Linyi Longxin Wood Co., Ltd | 183.36 | 171.55
Suzhou Oriental Dragon Import and Export Co., Ltd | Linyi Oriental Fuchao Wood Co., Ltd | 183.36 | 171.55
Suzhou Oriental Dragon Import and Export Co., Ltd | Linyi Qianfeng Wood Co., Ltd | 183.36 | 171.55
Suzhou Oriental Dragon Import and Export Co., Ltd | Feixian Wanda Wood Factory | 183.36 | 171.55
Suzhou Oriental Dragon Import and Export Co., Ltd | Shandong Union Wood Co., Ltd | 183.36 | 171.55
Suzhou Oriental Dragon Import and Export Co., Ltd | Shandong Jinqiu Wood Corporation | 183.36 | 171.55
Suzhou Oriental Dragon Import and Export Co., Ltd | Yinhe Machinery Chemical Limited Company of Shandong Province | 183.36 | 171.55
Suzhou Oriental Dragon Import and Export Co., Ltd | Linyi City Yongsen Wood Corp | 183.36 | 171.55
Suzhou Oriental Dragon Import and Export Co., Ltd | Xuzhou Changcheng Wood Co., Ltd | 183.36 | 171.55
Suzhou Oriental Dragon Import and Export Co., Ltd | Pizhou Fushen Wood Co., Ltd | 183.36 | 171.55
Suzhou Oriental Dragon Import and Export Co., Ltd | Pizhou Yuanxing Wood Co., Ltd | 183.36 | 171.55
Suzhou Oriental Dragon Import and Export Co., Ltd | Xuzhou Yuantai Wood Co., Ltd | 183.36 | 171.55
Suzhou Oriental Dragon Import and Export Co., Ltd | Xuzhou Hongfu Wood Co., Ltd | 183.36 | 171.55
Suzhou Oriental Dragon Import and Export Co., Ltd | Feng County Shuangxingyuan Wood | 183.36 | 171.55
Suzhou Oriental Dragon Import and Export Co., Ltd | Anhui Fuyang Qinglin Wood Products Co., Ltd | 183.36 | 171.55
Suzhou Oriental Dragon Import and Export Co., Ltd | Linyi Dahua Wood Co., Ltd | 183.36 | 171.55
Suzhou Oriental Dragon Import and Export Co., Ltd | Juxian Dechang Wood Co., Ltd | 183.36 | 171.55
Suzhou Oriental Dragon Import and Export Co., Ltd | Feixian Jinhao Wood Board Plant | 183.36 | 171.55
Suzhou Oriental Dragon Import and Export Co., Ltd | Siyang Dahua Plywood Plant | 183.36 | 171.55
Suzhou Oriental Dragon Import and Export Co., Ltd | Linyi Lanshan District Fubo Woods Factory | 183.36 | 171.55
Suzhou Oriental Dragon Import and Export Co., Ltd | Xuzhou Deheng Wood Co., Ltd | 183.36 | 171.55
Suzhou Oriental Dragon Import and Export Co., Ltd | Linyi Kaifeng Wood Board Factory | 183.36 | 171.55
Suzhou Oriental Dragon Import and Export Co., Ltd | Linyi Zhenyuan Wood Products Co., Ltd | 183.36 | 171.55
Suzhou Oriental Dragon Import and Export Co., Ltd | Xuzhou Weilin Wood Co., Ltd | 183.36 | 171.55
Suzhou Oriental Dragon Import and Export Co., Ltd | Linyi Tianlu Wood Board Factory | 183.36 | 171.55
Suzhou Oriental Dragon Import and Export Co., Ltd | Linyi Baoshan Board Factory | 183.36 | 171.55
Suzhou Oriental Dragon Import and Export Co., Ltd | Linyi Mingzhu Wood Co., Ltd | 183.36 | 171.55
Suzhou Oriental Dragon Import and Export Co., Ltd | Xinyi Chaohua Wood Co., Ltd | 183.36 | 171.55
Suzhou Oriental Dragon Import and Export Co., Ltd | Pizhou Jinguoyuan Wood Co., Ltd | 183.36 | 171.55
Suzhou Oriental Dragon Import and Export Co., Ltd | Feng County Jihe Wood Co., Ltd | 183.36 | 171.55
Suzhou Oriental Dragon Import and Export Co., Ltd | Dangshan County Weidi Wood Co., Ltd | 183.36 | 171.55
Suzhou Oriental Dragon Import and Export Co., Ltd | Zhucheng Runheng Industrial and Trading Co., Ltd | 183.36 | 171.55
Xuzhou Amish Import & Export Trade Co., Ltd | Xuzhou Amish Import & Export Trade Co., Ltd | 183.36 | 171.55
Xuzhou Andefu Wood Co., Ltd | Fengxian Fangyuan Wood Co., Ltd | 183.36 | 171.55
Xuzhou Baoqi Wood Product Co., Ltd | Linyi Jinghai Board Plant | 183.36 | 171.55
Xuzhou Baoqi Wood Product Co., Ltd | Linyi Lanshan Yulin Board Plant | 183.36 | 171.55
Xuzhou Dilun Wood Co. Ltd | Xuzhou Dilun Wood Co. Ltd | 183.36 | 171.55
Xuzhou DNT Commercial Co., Ltd | Xuzhou Longyuan Wood Industry Co., Ltd | 183.36 | 171.55
Xuzhou DNT Commercial Co., Ltd | Linyi Changcheng Wood Co., Ltd | 183.36 | 171.55
Xuzhou DNT Commercial Co., Ltd | Feixian Jinde Wood Co., Ltd | 183.36 | 171.55
Xuzhou DNT Commercial Co., Ltd | Suzhou Dongsheng Wood Co., Ltd | 183.36 | 171.55
Xuzhou DNT Commercial Co., Ltd | Fengxian Fangyuan Wood Co., Ltd | 183.36 | 171.55
Xuzhou DNT Commercial Co., Ltd | Xuzhou City Hengde Wood Products Co., Ltd | 183.36 | 171.55
Xuzhou DNT Commercial Co., Ltd | Pizhou Jiangshan Wood Co., Ltd | 183.36 | 171.55
Xuzhou DNT Commercial Co., Ltd | Linyi Huasheng Yongbin Wood Corp | 183.36 | 171.55
Xuzhou DNT Commercial Co., Ltd | Pizhou Jinguoyuan Wood Co., Ltd | 183.36 | 171.55
Xuzhou DNT Commercial Co., Ltd | Linyi Mingzhu Wood Co., Ltd | 183.36 | 171.55
Xuzhou DNT Commercial Co., Ltd | Linyi Renlin Wood Industry Co., Ltd | 183.36 | 171.55
Xuzhou DNT Commercial Co., Ltd | Binzhou Yongsheng Artificial Board Industrial & Training Co., Ltd | 183.36 | 171.55
Xuzhou DNT Commercial Co., Ltd | Xuzhou Zhongcai Wood Co., Ltd | 183.36 | 171.55
Xuzhou DNT Commercial Co., Ltd | Anhui Xinyuanda Wood Co., Ltd | 183.36 | 171.55
Xuzhou DNT Commercial Co., Ltd | Shandong Lianbang Wood Co., Ltd | 183.36 | 171.55
Xuzhou DNT Commercial Co., Ltd | Linyi Xinrui Wood Co., Ltd | 183.36 | 171.55
Xuzhou DNT Commercial Co., Ltd | Shandong Huashi Lvyuan Wood Co., Ltd | 183.36 | 171.55
Xuzhou DNT Commercial Co., Ltd | Xuzhou Fuyu Wood Co., Ltd | 183.36 | 171.55
Xuzhou DNT Commercial Co., Ltd | Linyi Dazhong Wood Co., Ltd | 183.36 | 171.55
Xuzhou DNT Commercial Co., Ltd | Shandong Junxing Wood Co., Ltd | 183.36 | 171.55
Xuzhou DNT Commercial Co., Ltd | Linyi City Lanshan District Linyu Plywood Factory | 183.36 | 171.55
Xuzhou DNT Commercial Co., Ltd | Linyi City Dongfang Fuchao Wood Co., Ltd | 183.36 | 171.55
Xuzhou DNT Commercial Co., Ltd | Linyi Dahua Wood Co., Ltd | 183.36 | 171.55
Xuzhou DNT Commercial Co., Ltd | Linyi Qianfeng Wood Co., Ltd | 183.36 | 171.55
Xuzhou DNT Commercial Co., Ltd | Xuzhou Zhongtong Wood Co., Ltd | 183.36 | 171.55
Xuzhou DNT Commercial Co., Ltd | Shandong Oufan Wood Co., Ltd | 183.36 | 171.55
Xuzhou DNT Commercial Co., Ltd | Shandong Jubang Wood Co., Ltd | 183.36 | 171.55
Xuzhou DNT Commercial Co., Ltd | Xuzhou Changcheng Wood Products Co., Ltd | 183.36 | 171.55
Xuzhou DNT Commercial Co., Ltd | Feixian Jinhao Wood Board Plant | 183.36 | 171.55
Xuzhou DNT Commercial Co., Ltd | Feixian Huafeng Wood Co., Ltd | 183.36 | 171.55
Xuzhou DNT Commercial Co., Ltd | Dhanshan County Weidi Wood Co., Ltd | 183.36 | 171.55
Xuzhou DNT Commercial Co., Ltd | Xuzhou Hongmei Wood Development Co., Ltd | 183.36 | 171.55
Xuzhou Eastern Huatai International Trading Co., Ltd | Xuzhou Well-Done Wood Co., Ltd | 183.36 | 171.55
Xuzhou Eastern Huatai International Trading Co., Ltd | Linyi Longxin Wood Co., Ltd | 183.36 | 171.55
Xuzhou Eastern Huatai International Trading Co., Ltd | Linyi Xicheng Wood Co., Ltd | 183.36 | 171.55
Xuzhou Eastern Huatai International Trading Co., Ltd | Xuzhou Hongfu Wood Co., Ltd | 183.36 | 171.55
Xuzhou Eastern Huatai International Trading Co., Ltd | Oufan Wooden Products Shandong Co., Ltd | 183.36 | 171.55
Xuzhou Eastern Huatai International Trading Co., Ltd | Dangshan Weidi Wood Co., Ltd | 183.36 | 171.55
Xuzhou Eastern Huatai International Trading Co., Ltd | Xu Zhou Chang Cheng Wood Co,Ltd | 183.36 | 171.55
Xuzhou Hansun Import & Export Co. Ltd | XuZhou Zhongyuan Wood Co., Ltd | 183.36 | 171.55
Xuzhou Jiangheng Wood Products Co., Ltd | Xuzhou Jiangheng Wood Products Co., Ltd | 183.36 | 171.55
Xuzhou Jiangyang Wood Industries Co., Ltd | Xuzhou Jiangyang Wood Industries Co., Ltd | 183.36 | 171.55
Xuzhou Longyuan Wood Industry Co., Ltd | Xuzhou Longyuan Wood Industry Co., Ltd | 183.36 | 171.55
Xuzhou Maker's Mark Building Materials Co., Ltd | Xuzhou Qinglin Wood Co., Ltd | 183.36 | 171.55
Xuzhou Maker's Mark Building Materials Co., Ltd | Xuzhou Maomei Wood Co., Ltd | 183.36 | 171.55
Xuzhou Maker's Mark Building Materials Co., Ltd | Suzhou Jiakaide Wood Co., Ltd | 183.36 | 171.55
Xuzhou Pinlin International Trade Co., Ltd | Xuzhou Longyuan Wood Industry Co., Ltd | 183.36 | 171.55
Xuzhou Pinlin International Trade Co., Ltd | Linyi Changcheng Wood Co., Ltd | 183.36 | 171.55
Xuzhou Pinlin International Trade Co., Ltd | Feixian Jinde Wood Co., Ltd | 183.36 | 171.55
Xuzhou Pinlin International Trade Co., Ltd | Suzhou Dongsheng Wood Co., Ltd | 183.36 | 171.55
Xuzhou Pinlin International Trade Co., Ltd | Fengxian Fangyuan Wood Co., Ltd | 183.36 | 171.55
Xuzhou Pinlin International Trade Co., Ltd | Xuzhou City Hengde Wood Products Co., Ltd | 183.36 | 171.55
Xuzhou Pinlin International Trade Co., Ltd | Pizhou Jiangshan Wood Co., Ltd | 183.36 | 171.55
Xuzhou Pinlin International Trade Co., Ltd | Linyi Huasheng Yongbin Wood Corp | 183.36 | 171.55
Xuzhou Pinlin International Trade Co., Ltd | Pizhou Jinguoyuan Wood Co., Ltd | 183.36 | 171.55
Xuzhou Pinlin International Trade Co., Ltd | Linyi Mingzhu Wood Co., Ltd | 183.36 | 171.55
Xuzhou Pinlin International Trade Co., Ltd | Linyi Renlin Wood Industry Co., Ltd | 183.36 | 171.55
Xuzhou Pinlin International Trade Co., Ltd | Binzhou Yongsheng Artificial Board Industrial & Training Co., Ltd | 183.36 | 171.55
Xuzhou Pinlin International Trade Co., Ltd | Xuzhou Zhongcai Wood Co., Ltd | 183.36 | 171.55
Xuzhou Pinlin International Trade Co., Ltd | Anhui Xinyuanda Wood Co., Ltd | 183.36 | 171.55
Xuzhou Pinlin International Trade Co., Ltd | Shandong Lianbang Wood Co., Ltd | 183.36 | 171.55
Xuzhou Pinlin International Trade Co., Ltd | Linyi Xinrui Wood Co., Ltd | 183.36 | 171.55
Xuzhou Pinlin International Trade Co., Ltd | Shandong Huashi Lvyuan Wood Co., Ltd | 183.36 | 171.55
Xuzhou Pinlin International Trade Co., Ltd | Xuzhou Fuyu Wood Co., Ltd | 183.36 | 171.55
Xuzhou Pinlin International Trade Co., Ltd | Linyi Dazhong Wood Co., Ltd | 183.36 | 171.55
Xuzhou Pinlin International Trade Co., Ltd | Shandong Junxing Wood Co., Ltd | 183.36 | 171.55
Xuzhou Pinlin International Trade Co., Ltd | Linyi City Lanshan District Linyu Plywood Factory | 183.36 | 171.55
Xuzhou Pinlin International Trade Co., Ltd | Linyi City Dongfang Fuchao Wood Co., Ltd | 183.36 | 171.55
Xuzhou Pinlin International Trade Co., Ltd | Linyi Dahua Wood Co., Ltd | 183.36 | 171.55
Xuzhou Pinlin International Trade Co., Ltd | Linyi Qianfeng Wood Co., Ltd | 183.36 | 171.55
Xuzhou Pinlin International Trade Co., Ltd | Xuzhou Zhongtong Wood Co., Ltd | 183.36 | 171.55
Xuzhou Pinlin International Trade Co., Ltd | Shandong Oufan Wood Co., Ltd | 183.36 | 171.55
Xuzhou Pinlin International Trade Co., Ltd | Shandong Jubang Wood Co., Ltd | 183.36 | 171.55
Xuzhou Pinlin International Trade Co., Ltd | Xuzhou Changcheng Wood Products Co., Ltd | 183.36 | 171.55
Xuzhou Pinlin International Trade Co., Ltd | Feixian Jinhao Wood Board Plant | 183.36 | 171.55
Xuzhou Pinlin International Trade Co., Ltd | Feixian Huafeng Wood Co., Ltd | 183.36 | 171.55
Xuzhou Pinlin International Trade Co., Ltd | Dhanshan County Weidi Wood Co., Ltd | 183.36 | 171.55
Xuzhou Pinlin International Trade Co., Ltd | Xuzhou Hongmei Wood Development Co., Ltd | 183.36 | 171.55
Xuzhou Shenghe Wood Co. Ltd | Xuzhou Shenghe Wood Co. Ltd | 183.36 | 171.55
Xuzhou Shengping Imp and Exp Co., Ltd | Xuzhou Longyuan Wood Industry Co., Ltd | 183.36 | 171.55
Xuzhou Shuiwangxing Trading Co., Ltd | Fengxian Jihe Wood Industry Co. Ltd | 183.36 | 171.55
Xuzhou Shuner Import & Export Trade Co. Ltd | Pizhou Fushen Wood Co. Ltd | 183.36 | 171.55
Xuzhou Tianshan Wood Co., Ltd | Xuzhou Tianshan Wood Co., Ltd | 183.36 | 171.55
Xuzhou Timber International Trade Co., Ltd | Xuzhou Jiangheng Wood Products Co., Ltd | 183.36 | 171.55
Xuzhou Timber International Trade Co., Ltd | Xuzhou Jiangyang Wood Industries Co., Ltd | 183.36 | 171.55
Xuzhou Timber International Trade Co., Ltd | Xuzhou Changcheng Wood Co., Ltd | 183.36 | 171.55
Xuzhou Timber International Trade Co., Ltd | Fengxian Shuangxingyuan Wood Co., Ltd | 183.36 | 171.55
Xuzhou Timber International Trade Co., Ltd | Linyi Mingzhu Wood Co., Ltd | 183.36 | 171.55
Xuzhou Timber International Trade Co., Ltd | Linyi City Lanshan District Daqian Wood Board Factory | 183.36 | 171.55
Xuzhou Timber International Trade Co., Ltd | Feixian Hongsheng Wood Co., Ltd | 183.36 | 171.55
Xuzhou Timber International Trade Co., Ltd | Xuzhou Hongwei Wood Co., Ltd | 183.36 | 171.55
Xuzhou Timber International Trade Co., Ltd | Pizhou Jinguoyuan Wood Co., Ltd | 183.36 | 171.55
Xuzhou Timber International Trade Co., Ltd | Linyi Qianfeng Wood Factory | 183.36 | 171.55
Xuzhou Timber International Trade Co., Ltd | Linyi Renlin Wood Industry Co., Ltd | 183.36 | 171.55
Xuzhou Timber International Trade Co., Ltd | Xuzhou Senyuan Wood Products Co., Ltd | 183.36 | 171.55
Xuzhou Timber International Trade Co., Ltd | Jiangsu Lishun Industrial and Trading Co., Ltd | 183.36 | 171.55
Xuzhou Timber International Trade Co., Ltd | Pizhou Xuexin Wood Industry Co., Ltd | 183.36 | 171.55
Xuzhou Timber International Trade Co., Ltd | Feixian Hongjing Board Factory | 183.36 | 171.55
Xuzhou Timber International Trade Co., Ltd | Xuzhou Jiaqiang Wood Industry Co., Ltd | 183.36 | 171.55
Xuzhou Timber International Trade Co., Ltd | Shandong Shelter Forest Products Co., Ltd | 183.36 | 171.55
Xuzhou Timber International Trade Co., Ltd | Jiangsu Binsong Wood Co., Ltd | 183.36 | 171.55
Yangzhou Hanov International Co., Ltd | Linyi Longxin Wood Co., Ltd | 183.36 | 171.55
Yishui Zelin Wood Made Co., Ltd | Yishui Zelin Wood Made Co., Ltd | 183.36 | 171.55
Zhejiang Dehua TB Import & Export Co., Ltd | Dehua TB New Decoration Material Co., Ltd | 183.36 | 171.55
Zhejiang Dehua TB Import & Export Co., Ltd | Zhangjiagang Jiuli Wood Co., Ltd | 183.36 | 171.55
PRC-Wide Entity¹⁸ | 183.36

Disclosure

We intend to disclose to parties the calculations performed in this proceeding within five days of any public announcement of this notice in accordance with 19 CFR 351.224 (b).

¹⁸ As detailed in the Preliminary Decision Memorandum and Issues and Decision Memorandum, Bayley, a mandatory respondent in this investigation, Jiangsu Hanbao Building Material Co., Ltd., Qingdao King Sports Products Technology Co., Ltd., and Shanghai Sunshine did not demonstrate that they were entitled to a separate rate. Accordingly, we consider these companies to be part of the PRC-wide entity. As discussed in the Preliminary Decision Memorandum and Issues and Decision Memorandum, we have made an affirmative critical circumstances determination with regard to the PRC-wide entity.

Continuation of Suspension of Liquidation

In accordance with section 735(c)(1)(B) of the Act, we will instruct U.S. Customs and Border Protection (CBP) to continue to suspend liquidation of all entries of hardwood plywood from the PRC, as described in the “Scope of the Investigation” section, entered, or withdrawn from warehouse, for consumption on or after June 23, 2017, the date of publication of the Preliminary Determination notice in the Federal Register.

Pursuant to section 735(c)(1)(B)(ii) of the Act, the Department will instruct CBP to require a cash deposit ¹⁹ equal to the weighted-average amount by which NV exceeds U.S. price as follows: (1) The cash deposit rate for the exporter/producer combination listed in the table above will be the rate identified for that combination in the table; (2) for all combinations of PRC exporters/producers of merchandise under consideration that have not received their own separate rate above, the cash-deposit rate will be the cash deposit rate established for the PRC-wide entity; and (3) for all non-PRC exporters of the merchandise under consideration which have not received their own separate rate above, the cash-deposit rate will be the cash deposit rate applicable to the PRC exporter/producer combination that supplied that non-PRC exporter. These suspension of liquidation instructions will remain in effect until further notice.

¹⁹ See Modification of Regulations Regarding the Practice of Accepting Bonds During the Provisional Measures Period in Antidumping and Countervailing Duty Investigations, 76 FR 61042 (October 3, 2011).

We normally adjust antidumping duty cash deposit rates by the amount of export subsidies, where appropriate. In the companion CVD investigation, with respect to Chengen, a mandatory respondent in this investigation not individually examined in the CVD investigation, and the separate-rate companies, we find that an export subsidy adjustment of 11.81 percent to the cash deposit rate is warranted because this is the export subsidy rate included in the countervailing duty “all others” rate to which the separate-rate companies are subject. As part of our determination in this final determiation to apply adverse facts available the PRC-wide entity (which includes Bayley), the Department has not adjusted the PRC-wide entity's AD cash deposit rate by the lowest export subsidy rate determined for any party in the companion CVD proceeding, because the lowest export subsidy rate determined in the companion CVD proceeding is 0.00 percent.²⁰ ²¹

²⁰ See, e.g., Certain Passenger Vehicle and Light Truck Tires from the People's Republic of China: Preliminary Determination of Sales at Less Than Fair Value; Preliminary Affirmative Determination of Critical Circumstances; In Part and Postponement of Final Determination, 80 FR 4250 (January 27, 2015), and accompanying Issues and Decision Memorandum at 35.

²¹ See Countervailing Duty Investigation of Certain Hardwood Plywood Products from the People's Republic of China: Final Affirmative Determination, and Final Affirmative Critical Circumstances Determination, in Part (CVD Final) and accompanying Issues and Decision Memorandum. The final determination in this companion CVD proceeding is being issued on the same day as this final determination.

Pursuant to section 777A(f) of the Act, we normally adjust preliminary cash deposit rates for estimated domestic subsidy pass-through, where appropriate. However, in this case there is no basis to grant a domestic subsidy pass-through adjustment.²²

²² See Preliminary Decision Memorandum at 42-43.

International Trade Commission Notification

In accordance with section 735(d) of the Act, we notified the International Trade Commission (ITC) of the final affirmative determination of sales at LTFV. As the Department's final determination is affirmative, in accordance with section 735(b)(2) of the Act, the ITC will determine, within 45 days, whether the domestic industry in the United States is materially injured, or threatened with material injury, by reason of imports of hardwood plywood for sale from the PRC, or sales (or the likelihood of sales) for importation, of hardwood plywood from the PRC. If the ITC determines that such injury does not exist, this proceeding will be terminated and all securities posted will be refunded or canceled. If the ITC determines that such injury does exist, the Department will issue an antidumping duty order directing CBP to assess, upon further instruction by the Department, antidumping duties on all imports of the subject merchandise entered, or withdrawn from warehouse, for consumption on or after the effective date of the suspension of liquidation.

Return or Destruction of Proprietary Information

This notice also serves as a reminder to the parties subject to administrative protective order (APO) of their responsibility concerning the disposition of propriety information disclosed under APO in accordance with 19 CFR 351.305. Timely written notification of return or destruction of APO materials or conversion to judicial protective order is hereby requested. Failure to comply with the regulations and terms of an APO is a sanctionable violation.

This determination is issued and published in accordance with sections 735(d) and 777(i)(1) of the Act.

Dated: November 6, 2017.
Gary Taverman,
Deputy Assistant Secretary for Antidumping and Countervailing Duty Operations, performing the non-exclusive functions and duties of the Assistant Secretary for Enforcement and Compliance.

Appendix I—Scope

The merchandise subject to this investigation is hardwood and decorative plywood, and certain veneered panels as described below. For purposes of this proceeding, hardwood and decorative plywood is defined as a generally flat, multilayered plywood or other veneered panel, consisting of two or more layers or plies of wood veneers and a core, with the face and/or back veneer made of non-coniferous wood (hardwood) or bamboo. The veneers, along with the core may be glued or otherwise bonded together. Hardwood and decorative plywood may include products that meet the American National Standard for Hardwood and Decorative Plywood, ANSI/HPVA HP-1-2016 (including any revisions to that standard).

For purposes of this investigation a “veneer” is a slice of wood regardless of thickness which is cut, sliced or sawed from a log, bolt, or flitch. The face and back veneers are the outermost veneer of wood on either side of the core irrespective of additional surface coatings or covers as described below.

The core of hardwood and decorative plywood consists of the layer or layers of one or more material(s) that are situated between the face and back veneers. The core may be composed of a range of materials, including but not limited to hardwood, softwood, particleboard, or medium-density fiberboard (MDF).

All hardwood plywood is included within the scope of this investigation regardless of whether or not the face and/or back veneers are surface coated or covered and whether or not such surface coating(s) or covers obscures the grain, textures, or markings of the wood. Examples of surface coatings and covers include, but are not limited to: Ultra violet light cured polyurethanes; oil or oil-modified or water based polyurethanes; wax; epoxy-ester finishes; moisture-cured urethanes; paints; stains; paper; aluminum; high pressure laminate; MDF; medium density overlay (MDO); and phenolic film. Additionally, the face veneer of hardwood plywood may be sanded; smoothed or given a “distressed” appearance through such methods as hand-scraping or wire brushing. All hardwood plywood is included within the scope even if it is trimmed; cut-to-size; notched; punched; drilled; or has underwent other forms of minor processing.

All hardwood and decorative plywood is included within the scope of this investigation, without regard to dimension (overall thickness, thickness of face veneer, thickness of back veneer, thickness of core, thickness of inner veneers, width, or length). However, the most common panel sizes of hardwood and decorative plywood are 1219 x 1829 mm (48 x 72 inches), 1219 x 2438 mm (48 x 96 inches), and 1219 x 3048 mm (48 x 120 inches).

Subject merchandise also includes hardwood and decorative plywood that has been further processed in a third country, including but not limited to trimming, cutting, notching, punching, drilling, or any other processing that would not otherwise remove the merchandise from the scope of the investigation if performed in the country of manufacture of the in-scope product.

The scope of the investigation excludes the following items: (1) Structural plywood (also known as “industrial plywood” or “industrial panels”) that is manufactured to meet U.S. Products Standard PS 1-09, PS 2-09, or PS 2-10 for Structural Plywood (including any revisions to that standard or any substantially equivalent international standard intended for structural plywood), and which has both a face and a back veneer of coniferous wood; (2) products which have a face and back veneer of cork; (3) multilayered wood flooring, as described in the antidumping duty and countervailing duty orders on Multilayered Wood Flooring from the People's Republic of China, Import Administration, International Trade Administration. See Multilayered Wood Flooring from the People's Republic of China, 76 FR 76690 (December 8, 2011) (amended final determination of sales at less than fair value and antidumping duty order), and Multilayered Wood Flooring from the People's Republic of China, 76 FR 76693 (December 8, 2011) (countervailing duty order), as amended by Multilayered Wood Flooring from the People's Republic of China: Amended Antidumping and Countervailing Duty Orders, 77 FR 5484 (February 3, 2012); (4) multilayered wood flooring with a face veneer of bamboo or composed entirely of bamboo; (5) plywood which has a shape or design other than a flat panel, with the exception of any minor processing described above; (6) products made entirely from bamboo and adhesives (also known as “solid bamboo”); and (7) Phenolic Film Faced Plyform (PFF), also known as Phenolic Surface Film Plywood (PSF), defined as a panel with an “Exterior” or “Exposure 1” bond classification as is defined by The Engineered Wood Association, having an opaque phenolic film layer with a weight equal to or greater than 90g/m3 permanently bonded on both the face and back veneers and an opaque, moisture resistant coating applied to the edges.

Excluded from the scope of this investigation are wooden furniture goods that, at the time of importation, are fully assembled and are ready for their intended uses. Also excluded from the scope of this investigation is “ready to assemble” (RTA) furniture. RTA furniture is defined as (A) furniture packaged for sale for ultimate purchase by an end-user that, at the time of importation, includes (1) all wooden components (in finished form) required to assemble a finished unit of furniture, (2) all accessory parts (e.g., screws, washers, dowels, nails, handles, knobs, adhesive glues) required to assemble a finished unit of furniture, and (3) instructions providing guidance on the assembly of a finished unit of furniture; (B) unassembled bathroom vanity cabinets, having a space for one or more sinks, that are imported with all unassembled hardwood and hardwood plywood components that have been cut-to-final dimensional component shape/size, painted or stained prior to importation, and stacked within a singled shipping package, except for furniture feet which may be packed and shipped separately; or (C) unassembled bathroom vanity linen closets that are imported with all unassembled hardwood and hardwood plywood components that have been cut-to-final dimensional shape/size, painted or stained prior to importation, and stacked within a single shipping package, except for furniture feet which may be packed and shipped separately.

Excluded from the scope of this investigation are kitchen cabinets that, at the time of importation, are fully assembled and are ready for their intended uses. Also excluded from the scope of this investigation are RTA kitchen cabinets. RTA kitchen cabinets are defined as kitchen cabinets packaged for sale for ultimate purchase by an end-user that, at the time of importation, includes (1) all wooden components (in finished form) required to assemble a finished unit of cabinetry, (2) all accessory parts (e.g., screws, washers, dowels, nails, handles, knobs, hooks, adhesive glues) required to assemble a finished unit of cabinetry, and (3) instructions providing guidance on the assembly of a finished unit of cabinetry.

Excluded from the scope of this investigation are finished table tops, which are table tops imported in finished form with pre-cut or drilled openings to attach the underframe or legs. The table tops are ready for use at the time of import and require no further finishing or processing.

Excluded from the scope of this investigation are finished countertops that are imported in finished form and require no further finishing or manufacturing.

Excluded from the scope of this investigation are laminated veneer lumber door and window components with (1) a maximum width of 44 millimeters, a thickness from 30 millimeters to 72 millimeters, and a length of less than 2413 millimeters (2) water boiling point exterior adhesive, (3) a modulus of elasticity of 1,500,000 pounds per square inch or higher, (4) finger-jointed or lap-jointed core veneer with all layers oriented so that the grain is running parallel or with no more than 3 dispersed layers of veneer oriented with the grain running perpendicular to the other layers; and (5) top layer machined with a curved edge and one or more profile channels throughout.

Imports of hardwood plywood are primarily entered under the following Harmonized Tariff Schedule of the United States (HTSUS) subheadings: 4412.10.0500; 4412.31.0520; 4412.31.0540; 4412.31.0560; 4412.31.0620; 4412.31.0640; 4412.31.0660; 4412.31.2510; 4412.31.2520; 4412.31.2610; 4412.31.2620; 4412.31.4040; 4412.31.4050; 4412.31.4060; 4412.31.4075; 4412.31.4080; 4412.31.4140; 4412.31.4150; 4412.31.4160; 4412.31.4180; 4412.31.5125; 4412.31.5135; 4412.31.5155; 4412.31.5165; 4412.31.5175; 4412.31.5235; 4412.31.5255; 4412.31.5265; 4412.31.5275; 4412.31.6000; 4412.31.6100; 4412.31.9100; 4412.31.9200; 4412.32.0520; 4412.32.0540; 4412.32.0565; 4412.32.0570; 4412.32.0620; 4412.32.0640; 4412.32.0670; 4412.32.2510; 4412.32.2525; 4412.32.2530; 4412.32.2610; 4412.32.2630; 4412.32.3125; 4412.32.3135; 4412.32.3155; 4412.32.3165; 4412.32.3175; 4412.32.3185; 4412.32.3235; 4412.32.3255; 4412.32.3265; 4412.32.3275; 4412.32.3285; 4412.32.5600; 4412.32.3235; 4412.32.3255; 4412.32.3265; 4412.32.3275; 4412.32.3285; 4412.32.5700; 4412.94.1030; 4412.94.1050; 4412.94.3105; 4412.94.3111; 4412.94.3121; 4412.94.3141; 4412.94.3161; 4412.94.3175; 4412.94.4100; 4412.99.0600; 4412.99.1020; 4412.99.1030; 4412.99.1040; 4412.99.3110; 4412.99.3120; 4412.99.3130; 4412.99.3140; 4412.99.3150; 4412.99.3160; 4412.99.3170; 4412.99.4100; 4412.99.5115; and 4412.99.5710.

Imports of hardwood plywood may also enter under HTSUS subheadings 4412.99.6000; 4412.99.7000; 4412.99.8000; 4412.99.9000; 4412.10.9000; 4412.94.5100; 4412.94.9500; and 4412.99.9500. While the HTSUS subheadings are provided for convenience and customs purposes, the written description of the scope of this investigation is dispositive.

Appendix II—Issues and Decision Memorandum

I. Summary

II. Background

III. Scope of the Investigation

IV. Scope Comments

V. Changes Since the Preliminary Determination

VI. Critical Circumstances

VII. List of Issues

VIII. Discussion of Comments

Comment 1: The Department's Continued Use of AFA for Bayley

Comment 2: Valuation of Raw Material (Logs) or Intermediate Input (Veneers)

Comment 3: Selection of Surrogate Country

Comment 4: Department's Limited Selection of Mandatory Respondents and Denial of the FEA Group's Request for Voluntary Respondent Status

Comment 5: The Department Should Find Negative Critical Circumstances for the PRC-Wide Entity

Comment 6: The Department Should Treat China as a Market Economy

Comment 7: The Department Should Grant Hanbao a Separate Rate

Comment 8: Moot Arguments regarding AFA to Separate Rate Applicants

Comment 9: Bifurcated Briefing Schedule

IX. Conclusion

[FR Doc. 2017-24863 Filed 11-15-17; 8:45 am]

BILLING CODE 3510-DS-P